FEDERAL DEPOSIT INSURANCE CORPORATION

Agency Information Collection Activities: Proposed Collection Renewals (0022; 0027; 0029; 0061; 0113); Comment Request

AGENCY: Federal Deposit Insurance Corporation (FDIC).

ACTION: Notice and request for comment.

SUMMARY: The FDIC, as part of its continuing effort to reduce paperwork and respondent burden, invites the general public and other Federal agencies to take this opportunity to comment on proposed and/or continuing information collections, as required by the Paperwork Reduction Act of 1995 (44 U.S.C. chapter 35). Currently, the FDIC is soliciting comments concerning the following collections of information titled: (1) Uniform Application/Uniform Termination for Municipal Securities Principal or Representative; (2) Request for Deregistration for Registered Transfer Agents; (3) Notification of Performance of Bank Services; (4) Summary of Deposits; and (5) External Audits.

DATES: Comments must be submitted on or before September 29, 2008.

ADDRESSES: Interested parties are invited to submit written comments to Herbert J. Messite, Counsel, 202-898-6834, Legal Division, Federal Deposit Insurance Corporation, 550 17th Street, NW., Washington, DC 20429. All comments should refer to (1) Uniform Application/Uniform Termination for Municipal Securities Principal or Representative; (2) Request for Deregistration for Registered Transfer Agents; (3) Notification of Performance of Bank Services; (4) Summary of Deposits or (5) External Audits. Comments may be hand-delivered to the guard station at the rear of the 550 17th Street Building (located on F Street), on business days between 7 a.m. and 5 p.m. [FAX number 202-898-3838; e-mail address: comments@fdic.gov]. Comments may be inspected and photocopied in the FDIC Public Information Center, 801 17th Street, NW., Room 100, Washington, DC, between 9 a.m. and 4:30 p.m. on business days.

A copy of the comments may also be submitted to the OMB desk officer for the FDIC, Office of Information and Regulatory Affairs, Office of Management and Budget, New Executive Office Building, Room 3208, Washington, DC 20503.

FOR FURTHER INFORMATION CONTACT: Herbert J. Messite, at the address identified above.

SUPPLEMENTARY INFORMATION:

Proposal To Renew the Following Currently Approved Collections of Information

1. Title: Uniform Application/Uniform Termination for Municipal Securities Principal or Representative.

OMB Number: 3064-0022.

Form Number: MSD-4; MSD-5

Frequency of Response: On occasion.

Affected Public: Business or other financial institutions.

Estimated Number of Respondents: 75.

Estimated Time per Response: 1 hour.

Total Annual Burden: 75 hours.

General Description of Collection: An insured state nonmember bank which serves as a municipal securities dealer must file Form MSD-4 or MSD-5, as applicable, to permit an employee to become associated or to terminate the association with the municipal securities dealer. FDIC uses the form to ensure compliance with the professional requirements for municipal securities dealers in accordance with the rules of the Municipal Securities Rulemaking Board.

2. Title: Request for Deregistration for Registered Transfer Agents.

OMB Number: 3064-0027.

Frequency of Response: On occasion.

Affected Public: Business or other financial institutions.

Estimated Number of Respondents: 15.

Estimated Time per Response: .42 hours.

Total Annual Burden: 6.3 hours.

General Description of Collection: An insured nonmember bank or a subsidiary of such a bank that functions as a transfer agent may withdraw from registration as a transfer agent by filing a written notice of withdrawal with the FDIC as provided by 12 CFR 341.5.

3. Title: Notification of Performance of Bank Services

OMB Number: 3064-0029.

Form Number: FDIC 6120/06.

Frequency of Response: On occasion.

Affected Public: Business or other financial institutions.

Estimated Number of Respondents: 412.

Estimated Time per Response: 1/2 hour.

Total Annual Burden: 206 hours.

General Description of Collection: Insured state nonmember banks are required to notify the FDIC, under section 7 of the Bank Service Corporation Act (12 U.S.C. 1867), of the relationship with a bank service corporation. Form FDIC 6120/06 (Notification of Performance of Bank Services) may be used by banks to satisfy the notification requirement.

4. Title: Summary of Deposits.

OMB Number: 3064-0061.

Form Number: 8020/05 (7-95).

Frequency of Response: Annually.

Affected Public: All insured financial institutions.

Estimated Number of Respondents: 6,000.

Average Estimated Time per Response: 3 hours.

Total Annual Burden: 18,000 hours.

General Description of Collection: The Summary of Deposits annual survey obtains data about the amount of deposits held at each office of all insured banks with branches in the United States. The survey data provides a basis for measuring the competitive impact of bank mergers and has additional use in banking research.

5. Title: External Audits.

OMB Number: 3064-0113.

Frequency of Response: annually.

Affected Public: All insured financial institutions with total assets of $500 Million or more, and other insured financial institutions with total assets of less than $500 Million that voluntarily choose to comply.

Estimated Number of Respondents: 5,243.

Average Estimated Time per Response: (a) Financial institutions with assets of $1 Billion or more: 69.63 hours; (b) financial institutions with assets of $500 Million, but less than $1 Billion: 8.42 hours; (c) financial institutions with total assets less than $500 Million: 30 minutes.

Total Annual Burden: 65,612 hours.

General Description of Collection: FDIC's regulations at 12 CFR 363 establish annual independent audit and reporting requirements for financial institutions with total assets of $500 Million or more. The requirements include the submission of an annual report on their financial statements, recordkeeping about management deliberations regarding external auditing and reports about changes in auditors. The information collected is used to facilitate early identification of problems in financial management at financial institutions.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's requests to OMB for renewal of these collections. All comments will become a matter of public record.

Federal Deposit Insurance Corporation.
Robert E. Feldman,
Executive Secretary.

[FR Doc. E8-17256 Filed 7-28-08; 8:45 am]

BILLING CODE 6714-01-P